SECURITIES AND EXCHANGE COMMISSION

Proposed Collection; Comment Request

Upon written request, copies available from: Securities and Exchange Commission, Office of Filings and Information Services, Washington, DC 20549.

Extensions:

Form 8-A, OMB Control No. 3235-0056, SEC File No. 270-54.

Form 12b-25, OMB Control No. 3235-0058, SEC File No. 270-71.

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Form 8-A is a registration statement for certain classes of securities pursuant to Section 12(b) and 12(g) of the Securities Exchange Act of 1934. Section 12(a) requires securities traded on national exchanges to be registered under the Exchange Act. Section 12(g), and Rule 12g-1 promulgated thereunder, extend the Exchange Act registration requirements to issuers engaged in interstate commerce, or in a business affecting interstate commerce, and having total assets exceeding $10,000,000 and a class of equity security held or record by 500 or more people. Form 8-A takes approximately 3 hours to prepare and is filed by approximately 1,760 respondents for a total of 5,280 annual burden hours.

Form 12b-25 provides notice to the Commission and the marketplace that a public company will be unable to timely file a required periodic report. If certain conditions are met, the company is granted an automatic filing extension. Form 12b-25 is filed by publicly held companies. Form 12b-25 takes approximately 2.5 hours to prepare and is filed by approximately 7,799 companies for a total of 19,498 annual burden hours.

Written comments are invited on: (a) Whether these collections of information are necessary for the proper performance of the functions of the agency, including whether the information will have practical utility; (b) the accuracy of the agency's estimate of the burden of the collections of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 450 Fifth Street, NW., Washington, DC 20549.

Dated: June 8, 2005.
J. Lynn Taylor,
Assistant Secretary.

[FR Doc. E5-3119 Filed 6-16-05; 8:45 am]

BILLING CODE 8010-01-P